DEPARTMENT OF TRANSPORTATION

Office of the Secretary

Aviation Proceedings, Agreements Filed the Week Ending February 13, 2004

The following Agreements were filed with the Department of Transportation under the provisions of 49 U.S.C. Sections 412 and 414. Answers may be filed within 21 days after the filing of the application.

Docket Number: OST-2003-17070.

Date Filed: February 9, 2004.

Parties: Members of the International Air Transport Association.

Subject: PTC3 0686 dated 5 December 2003.

TC3 Areawide Resolutions.

PTC3 0687 dated 5 December 2003.

TC3 Within South Asian Subcontinent Resolutions.

PTC3 0688 dated 5 December 2003.

TC3 Within South West Pacific except between French Polynesia and American Samoa Resolutions.

PTC3 0689 dated 5 December 2003.

TC3 between South East Asia and South Asian Subcontinent Resolutions.

PTC3 0690 dated 5 December 2003.

TC3 between South Asian Subcontinent and South West Pacific Resolutions.

PTC3 0691 dated 5 December 2003.

TC3 between South East Asia and South West Pacific except between Malaysia and American Samoa Resolutions.

PTC3 0692 dated 5 December 2003.

TC3 between Japan-Korea Resolutions.

PTC3 0693 dated 5 December 2003.

TC3 between Japan, Korea and South West Pacific except between Korea (Rep. of) and American Samoa Resolutions.

PTC3 0694 dated 5 December 2003.

TC3 between French Polynesia and American Samoa Resolutions.

PTC3 0695 dated 5 December 2003.

TC3 between Malaysia and American Samoa Resolutions.

PTC3 0696 dated 5 December 2003.

TC3 between Korea (Rep. of) and American Samoa Resolutions.

PTC3 0697 dated 12 December 2003.

TC3 Within South East Asia except between Malaysia and Guam Resolutions.

PTC3 0698 dated 12 December 2003.

TC3 between Japan, Korea and South Asian Subcontinent Resolutions.

PTC3 0699 dated 12 December 2003.

TC3 between Japan, Korea and South East Asia except between Korea (Rep. of ) and Guam, Northern Mariana Island Resolutions.

PTC3 0700 dated 12 December 2003.

TC3 between Malaysia-Guam Resolutions.

PTC3 0701 dated 12 December 2003.

TC3 between Korea (Rep. of) and Guam, Northern Mariana Islands.

Resolutions r1-r194.

Corrects—PTC3 0705 dated 23 December 2003.

TC3 between Japan, Korea and South Asian Subcontinent Resolutions.

Minutes—PTC3 0717 dated 10 February 2004.

Tables—PTC3 Fares 0263 dated 19 December 2003.

TC3 Within South Asian Subcontinent Fares Tables.

PTC3 Fares 0264 dated 19 December 2003.

TC3 within South East Asia Fares Tables.

PTC3 Fares 0265 dated 19 December 2003.

TC3 Within South West Pacific Fares Tables.

PTC3 Fares 0266 dated 19 December 2003.

TC3 between Japan-Korea Fares Tables.

PTC3 Fares 0267 dated 19 December 2003.

TC3 between South East Asia and South Asian Subcontinent Fares Tables.

PTC3 Fares 0268 dated 19 December 2003.

TC3 between South Asian Subcontinent and South West Pacific Fares Tables.

PTC3 Fares 0269 dated 19 December 2003.

TC3 between Japan, Korea and South Asian Subcontinent Fares Tables.

PTC3 Fares 0270 dated 19 December 2003.

TC3 between South East Asia and South West Pacific Fares Tables.

PTC3 Fares 0271 dated 19 December 2003.

TC3 between Japan, Korea and South East Asia Fares Tables.

PTC3 Fares 0272 dated 19 December 2003.

TC3 between Japan, Korea and South West Pacific Fares Tables.

Intended effective date: 1 April 2004.

Docket Number: OST-2003-17117.

Date Filed: February 12, 2004.

Parties: Members of the International Air Transport Association.

Subject: PTC COMP 1125 dated 13 February 2004, Mail Vote 350—Resolution 010j, Special Amending Resolution from Poland r1-r3, Intended effective date: 1 March 2004.

Maria Gulczewski,
Acting Program Manager, Docket Operations, Federal Register Liaison.

[FR Doc. 04-3909 Filed 2-23-04; 8:45 am]

BILLING CODE 4910-62-P